ENVIRONMENTAL PROTECTION AGENCY

[ER-FRL-9030-1]

Environmental Impact Statements; Notice of Availability

Responsible Agency: Office of Federal Activities, General Information (202) 564-7146 or http://www.epa.gov/nepa.

Weekly receipt of Environmental Impact Statements (EISs) Filed 10/31/2016 Through 11/04/2016.

Pursuant to 40 CFR 1506.9.

Notice

Section 309(a) of the Clean Air Act requires that EPA make public its comments on EISs issued by other Federal agencies. EPA's comment letters on EISs are available at: http://www.epa.gov/compliance/nepa/eisdata.html.

EIS No. 20160261, Draft, USFS, ID, Coeur d Alene Basin Natural Resource Restoration Plan, Comment Period Ends: 01/13/2017, Contact: Jo Christensen 208-765-7417

EIS No. 20160262, Draft Supplement, Caltrans, CA, State Route 241-91 Tolled Express Lanes Connector Project, Comment Period Ends: 01/09/2017, Contact: Bahar Heydari 657-328-6533

EIS No. 20160263, Draft, USN, WA, EA-18G “Growler” Airfield Operations at the NAS Whidbey Island Complex, Comment Period Ends: 01/25/2017, Contact: Sarah Stallings 757-322-4733

EIS No. 20160264, Final, USFWS, PRO, Programmatic—Eagle Rule Revision, Review Period Ends: 12/09/2016, Contact: Eliza Savage 703 358-2329

EIS No. 20160265, Draft Supplement, USFS, MT, Beaverhead-Deerlodge National Forest Land and Resource Management Plan to Comply with the District Court Order (Bighorn Sheep) 2009 Revised Forest Plan, Comment Period Ends: 02/09/2017, Contact: Jan Bowey 406-683-3853

EIS No. 20160266, Draft, NRC, MO, Construction Permit for the Northwest Medical Isotopes Radioisotope Production Facility, Comment Period Ends: 12/29/2016, Contact: David Drucker 301-415-6223

EIS No. 20160267, Final, VA, SD, National Historic Preservation Act Section 106 Consultation: Reconfiguration of VA Black Hills Health Care System, Review Period Ends: 12/09/2016, Contact: Billie J. Beal 605-720-7243

Dated: November 7, 2016.
Dawn Roberts,
Management Analyst, NEPA Compliance Division, Office of Federal Activities.

[FR Doc. 2016-27186 Filed 11-9-16; 8:45 am]

BILLING CODE 6560-50-P